COMMITTEE FOR THE IMPLEMENTATION OF TEXTILE AGREEMENTS

Request for Public Comment on Commercial Availability Request under the North American Free Trade Agreement (NAFTA)

May 27, 2004.

AGENCY: The Committee for the Implementation of Textile Agreements (CITA).

ACTION: Request for Public Comments concerning a request for modification of the NAFTA rules of origin for woven fabrics of artificial filament yarns containing filament yarns of viscose rayon.

SUMMARY: On May 14, 2004, the Government of the United States received a request from the Government of Mexico alleging that filament yarns of viscose rayon, classified under the Harmonized Tariff Schedule of the United States (HTSUS) heading 5403, cannot be supplied by the North American industry in commercial quantities in a timely manner and requesting that the governments of Canada and the United States consult to consider whether the NAFTA rule of origin for woven fabrics of artificial filament yarn, classified under HTSUS heading 5408 should be modified to allow the use of non-North American filaments yarns of viscose rayon.

The President may proclaim a modification to the NAFTA rules of origin only after, inter alia, reaching an agreement with the other NAFTA countries on the modification. CITA hereby solicits public comments on this request, in particular with regard to whether filament yarns of viscose rayon can be supplied by the domestic industry in commercial quantities in a timely manner. Comments must be submitted by July 2, 2004 to the Chairman, Committee for the Implementation of Textile Agreements, Room 3001, United States Department of Commerce, Washington, D.C. 20230.

FOR FURTHER INFORMATION CONTACT: Martin Walsh, International Trade Specialist, Office of Textiles and Apparel, U.S. Department of Commerce, (202) 482-2818.

SUPPLEMENTARY INFORMATION:

Authority: Section 204 of the Agricultural Act of 1956, as amended (7 USC 1854); Section 202(q) of the North American Free Trade Agreement Implementation Act (19 USC 3332(q)); Executive Order 11651 of March 3, 1972, as amended.

BACKGROUND:

Under the North American Free Trade Agreement (NAFTA), NAFTA countries are required to eliminate customs duties on textile and apparel goods that qualify as originating goods under the NAFTA rules of origin, which are set out in Annex 401 to the NAFTA. The NAFTA provides that the rules of origin for textile and apparel products may be amended through a subsequent agreement by the NAFTA countries. In consultations regarding such a change, the NAFTA countries are to consider issues of availability of supply of fibers, yarns, or fabrics in the free trade area and whether domestic producers are capable of supplying commercial quantities of the good in a timely manner. The NAFTA Implementation Act provides the President with the authority to proclaim modifications to the NAFTA rules of origin as are necessary to implement an agreement with one or more NAFTA country on such a modification.

On May 14, 2004, the Government of the United States received a request from the Government of Mexico alleging that filament yarns of viscose rayon classified under HTSUS heading 5403 cannot be supplied by North American producers in commercial quantities in a timely manner and requesting that the Governments of Canada and the United States consult on whether the NAFTA rule of origin for woven fabrics of artificial filament yarns, classified under HTSUS heading 5408, should be modified to allow the use of non-North American filament yarns of viscose rayon.

CITA is soliciting public comments regarding this request, particularly with respect to whether filament yarns of viscose rayon, classified in HTSUS heading 5403, can be supplied by the domestic industry in commercial quantities in a timely manner. Comments must be received no later than July 2, 2004. Interested persons are invited to submit six copies of such comments or information to the Chairman, Committee for the Implementation of Textile Agreements, room 3100, U.S. Department of Commerce, 14th and Constitution Avenue, N.W., Washington, DC 20230.

If a comment alleges that filament yarns of viscose rayon can be supplied by the domestic industry in commercial quantities in a timely manner, CITA will closely review any supporting documentation, such as a signed statement by a manufacturer of the yarn stating that it produces the yarn that is in the subject of the request, including the quantities that can be supplied and the time necessary to fill an order, as well as any relevant information regarding past production.

CITA will protect any business confidential information that is marked “business confidential” from disclosure to the full extent permitted by law. CITA will make available to the public non-confidential versions of the request and non-confidential versions of any public comments received with respect to a request in room 3100 in the Herbert Hoover Building, 14th and Constitution Avenue, N.W., Washington, DC 20230. Persons submitting comments on a request are encouraged to include a non-confidential version and a non-confidential summary.

D. Michael Hutchinson,
Acting Chairman, Committee for the Implementation of Textile Agreements.

[FR Doc. 04-12547 Filed 5-28-04; 1:32 am]

BILLING CODE 3510-DR-S